DEPARTMENT OF HOMELAND SECURITY

U.S. Citizenship and Immigration Services

[OMB Control Number 1615-0137]

Agency Information Collection Activities; Revision of a Currently Approved Collection: Application for Employment Authorization for Abused Nonimmigrant Spouse

AGENCY: U.S. Citizenship and Immigration Services, Department of Homeland Security.

ACTION: 60-day notice.

SUMMARY: The Department of Homeland Security (DHS), U.S. Citizenship and Immigration (USCIS) invites the general public and other Federal agencies to comment upon this proposed revision of a currently approved collection of information or new collection of information. In accordance with the Paperwork Reduction Act (PRA) of 1995, the information collection notice is published in the Federal Register to obtain comments regarding the nature of the information collection, the categories of respondents, the estimated burden (i.e. the time, effort, and resources used by the respondents to respond), the estimated cost to the respondent, and the actual information collection instruments.

DATES: Comments are encouraged and will be accepted for 60 days until April 16, 2018.

ADDRESSES: All submissions received must include the OMB Control Number 1615-0137 in the body of the letter, the agency name and Docket ID USCIS-2016-0004. To avoid duplicate submissions, please use only one of the following methods to submit comments:

(1) Online. Submit comments via the Federal eRulemaking Portal website at http://www.regulations.gov under e-Docket ID number USCIS-2016-0004;

(2) Mail. Submit written comments to DHS, USCIS, Office of Policy and Strategy, Chief, Regulatory Coordination Division, 20 Massachusetts Avenue NW, Washington, DC 20529-2140.

FOR FURTHER INFORMATION CONTACT: USCIS, Office of Policy and Strategy, Regulatory Coordination Division, Samantha Deshommes, Chief, 20 Massachusetts Avenue NW, Washington, DC 20529-2140, telephone number 202-272-8377 (This is not a toll-free number. Comments are not accepted via telephone message). Please note contact information provided here is solely for questions regarding this notice. It is not for individual case status inquiries. Applicants seeking information about the status of their individual cases can check Case Status Online, available at the USCIS website at http://www.uscis.gov, or call the USCIS National Customer Service Center at 800-375-5283 (TTY 800-767-1833).

SUPPLEMENTARY INFORMATION:

Comments

You may access the information collection instrument with instructions, or additional information by visiting the Federal eRulemaking Portal site at: http://www.regulations.gov and enter USCIS-2016-0004 in the search box. Regardless of the method used for submitting comments or material, all submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Application for Employment Authorization for Abused Nonimmigrant Spouse.

(3) Agency form number, if any, and the applicable component of the DHS sponsoring the collection: I-765V; USCIS.

(4) Affected public who will be asked or required to respond, as well as a brief abstract: Primary: Individuals or households. U.S. Citizenship and Immigration Services (USCIS) will use Form I-765V, Application for Employment Authorization for Abused Nonimmigrant Spouse, to collect the information that is necessary to determine if the applicant is eligible for an initial EAD or renewal EAD as a qualifying abused nonimmigrant spouse. Aliens are required to possess an EAD as evidence of work authorization. To be authorized for employment, an alien must be lawfully admitted for permanent residence or authorized to be so employed by the INA or under regulations issued by DHS. Pursuant to statutory or regulatory authorization, certain classes of aliens are authorized to be employed in the United States without restrictions as to location or type of employment as a condition of their admission or subsequent change to one of the indicated classes. USCIS may determine the validity period assigned to any document issued evidencing an alien's authorization to work in the United States.

USCIS also collects biometric information from EAD applicants to verify the applicant's identity, check or update their background information, and produce the EAD card.

USCIS is submitting this request in order for qualifying abused nonimmigrant spouses to seek safety and financial stability from their abuser.

The Form I-765V, Application for Employment Authorization for Abused Nonimmigrant Spouse, permits battered spouses of nonimmigrants admitted under subparagraph (A), (E)(iii), (G), or (H) of section 101(a)(15) of the Act to apply for employment authorization based on section 106 of the INA.

To be eligible for employment authorization issued under INA section 106, credible evidence must be submitted demonstrating that the applicant:

1. Is married to a qualifying principal nonimmigrant spouse, or was married to a qualifying principal nonimmigrant spouse and

a. The spouse died within two years of filing the EAD application,

b. The spouse lost qualifying nonimmigrant status due to an incident of domestic violence, or

c. The marriage to the principal spouse was terminated within the two years prior to filing for the INA section 106 employment authorization, and there is a connection between the termination of the marriage and the battery or extreme cruelty;

2. Was last admitted as a nonimmigrant under INA section 101(a)(15)(A), (E)(iii), (G), or (H);

3. Was battered or has been subjected to extreme cruelty, or whose child was battered or subjected to extreme cruelty, perpetrated by the principal nonimmigrant spouse during the marriage and after admission as a nonimmigrant under INA section 101(a)(15)(A), (E)(iii), (G), or (H); and

4. Currently resides in the United States.

Form I-765V will provide the information needed to determine eligibility for employment authorization based on INA section 106. If the applicant remarries prior to adjudication of the application, he or she is ineligible for initial issuance or renewal of employment authorization under INA section 106.

In addition, if an applicant for employment authorization is filing based on a claim that his or her child was battered or subjected to extreme cruelty, USCIS requires submission of evidence establishing the applicant's parental relationship with the abused child.

Confidentiality provisions of Title 8, United States Code, section 1367 extend to applicants for employment authorization under INA section 106.

(5) An estimate of the total number of respondents and the amount of time estimated for an average respondent to respond: The estimated total number of respondents for the information collection I-765V is 500 and the estimated hour burden per response is 3.75 hours; the estimated total number of respondents for the information collection Biometric Processing is 500 and the estimated hour burden per response is 1.17 hours.

(6) An estimate of the total public burden (in hours) associated with the collection: The total estimated annual hour burden associated with this collection is 2,460 hours.

(7) An estimate of the total public burden (in cost) associated with the collection: The estimated total annual cost burden associated with this collection of information is $125,000.

Dated: February 9, 2018.
Samantha Deshommes,
Chief, Regulatory Coordination Division, Office of Policy and Strategy, U.S. Citizenship and Immigration Services, Department of Homeland Security.

[FR Doc. 2018-03107 Filed 2-14-18; 8:45 am]

BILLING CODE 9111-97-P